SMALL BUSINESS ADMINISTRATION

[Disaster Declaration #12155 and #12156]

Alabama Disaster Number AL-00029

AGENCY: U.S. Small Business Administration.

ACTION: Amendment 1.

SUMMARY: This is an amendment of the Presidential declaration of a major disaster for the State of Alabama (FEMA-1908-DR), dated 05/03/2010.

Incident: Severe Storms, Tornadoes, Straight-line Winds, and Flooding.

Incident Period: 04/24/2010 through 04/25/2010.

Effective Date: 05/07/2010.

Physical Loan Application Deadline Date: 07/02/2010.

EIDL Loan Application Deadline Date: 02/03/2011.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: The notice of the Presidential disaster declaration for the State of Alabama, dated 05/03/2010 is hereby amended to include the following areas as adversely affected by the disaster:

Primary Counties (Physical Damage and Economic Injury Loans): Walker.

Contiguous Counties (Economic Injury Loans Only):

Alabama: Fayette, Jefferson, Marion, Tuscaloosa, Winston.

All other information in the original declaration remains unchanged.

(Catalog of Federal Domestic Assistance Numbers 59002 and 59008)

James E. Rivera,
Associate Administrator for Disaster Assistance.

[FR Doc. 2010-11745 Filed 5-17-10; 8:45 am]

BILLING CODE 8025-01-P